DEPARTMENT OF HEALTH AND HUMAN SERVICES

Program Support Center; Agency Information Collection Activities: Proposed Collections; Comment Request

The Department of Health and Human Services, Program Support Center (PSC) will periodically publish summaries of proposed information collection projects and solicit public comments in compliance with the requirements of section 3506(c)(2)(A) of the Paperwork Reduction Act of 1995. To request more information on the project or to obtain a copy of the information collection plans and instruments, call the PSC Reports Clearance Officer on (301) 443-1494.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

1. Application Packets for Real Property for Public Health Purposes—0937-0191—Revision

The Department of Health and Human Services administers a program to convey or lease surplus real property to States and their political subdivisions and instrumentalities, to tax-supported institutions, and to nonprofit institutions to be used for health purposes. State and local governments and nonprofit organizations use these applications to apply for excess/surplus, underutilized/unutilized and off-site Government real property. Information in the applications is used to determine eligibility to purchase, lease, or use property under the provisions of the surplus property program. The application instructions for the homeless or public health purposes are being revised to clarify some of the questions which will assist reviewers in making more informed determinations. No changes are being proposed for the environmental information form used to evaluate potential environmental effects of a proposal as required by the National Environmental Policy Act of 1969. Respondents: State, local or tribal governments; not-for-profit institutions; Total Number of Respondents: 32 per calendar year; Number of Responses per Respondent: one response per request; Average Burden per Response: 200 hours; Estimated Annual Burden: 6,400 hours.

Send comments to Irene S. West, PSC Reports Clearance Officer, Room 17A-18, Parklawn Building, 5600 Fishers Lane, Rockville, MD 20857. Written comments should be received within 60 days of this notice.

Dated: January 19, 2001.
Curtis L. Coy,
Director, Program Support Center.

[FR Doc. 01-2275 Filed 1-24-01; 8:45 am]

BILLING CODE 4168-17-M